ENVIRONMENTAL PROTECTION AGENCY

[EPA-HQ-OW-2010-0782; ER-FRL-9000-7]

Availability of an Environmental Assessment (EA) and Finding of No Significant Impact (FONSI)

AGENCY: Environmental Protection Agency (EPA).

ACTION: Environmental Assessment (EA)/Finding of No Significant Impact (FONSI).

SUMMARY: Pursuant to the National Environmental Policy Act (NEPA) (42 U.S.C. 4321-4307h), the Council on Environmental Quality's NEPA regulations (40 CFR Part 1500-1508), and EPA's regulations for implementing NEPA (40 CFR Part 6), EPA has prepared an Environmental Assessment (EA) to analyze the potential environmental impacts related to the reissuance of the National Pollutant Discharge Elimination System (NPDES) General Permit for Discharges from Construction Activities (2012 Construction General Permit). The EA evaluates the potential environmental impacts from the discharge of pollutants associated with stormwater runoff from construction activities greater than one acre, where EPA is the permitting authority. Based on the environmental impact analysis in the EA, EPA has made a preliminary determination that no significant environmental impacts are anticipated from the issuance of the 2012 Construction General Permit.

This notice initiates the 30-day review period and invites comments from Federal, State, and local agencies, Indian tribes, and the public regarding EPA's preliminary determination.

DATES: Comments must be received by January 23, 2012.

ADDRESSES: You may submit comments to the Docket ID No. EPA-HQ-OW-2010-0782 by any of the following methods:

• Federal eRulemaking Portal: Go to http://www.regulations.gov. Follow the online instructions for submitting comments by clicking on “Help” or “FAQs.”

• Mail: Attn: CGP Comments, U.S. Environmental Protection Agency, Office of Wastewater Management, 1200 Pennsylvania Avenue NW., Mail Code: 4203 M, Washington, DC 20460.

• Courier: Attn: CGP Comments, U.S. Environmental Protection Agency, Office of Wastewater Management, 1200 Pennsylvania Avenue NW., Rm # 7241C, Washington, DC 20004, between 9 a.m. and 5 p.m. Eastern time, Monday through Friday, except Federal holidays.

Comments should be received within 30 days of the date of the publication of this notice in the Federal Register. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov. The http://www.regulations.gov Web site is an “anonymous access” system, which means EPA will not know your identity or contact information unless you provide it in the body of your comment. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Jessica Trice, NEPA Compliance Division, Office of Federal Activities, U.S. Environmental Protection Agency, 1200 Pennsylvania Avenue NW., Mail Code: 2252A, Washington, DC 20460. Telephone: (202) 564-6646.

SUPPLEMENTARY INFORMATION: EPA is seeking public comment regarding its preliminary Finding of No Significant Impact (FONSI) to document its determination that no significant environmental impacts are anticipated from the issuance of the 2012 Construction General Permit. EPA invites the public to submit comments through Regulations.gov or by mail to the address cited in the ADDRESSES section during the 30-day comment period following the publication of this notice in the Federal Register.

Since 1992, EPA has issued a series of NPDES Construction General Permits (CGP) that cover areas where EPA is the permitting authority. At present, EPA is the permitting authority in four states (Idaho, Massachusetts, New Hampshire, and New Mexico), the District of Columbia, Puerto Rico, all U.S. territories with the exception of the Virgin Islands, federal facilities in four states (Colorado, Delaware, Vermont, and Washington), most Indian lands and other specifically designated activities in specific states (e.g., oil and gas activities in Texas and Oklahoma). EPA's current CGP became effective on June 30, 2008 (see 74 FR 40338) and will expire on February 15, 2012. The proposed action, would replace the 2008 CGP, as well as the 2003 CGP for construction sites still covered under that administratively continued permit. EPA proposes to issue the construction general permit for five (5) years, and to provide permit coverage to eligible existing and new construction projects in all areas of the country where EPA is the NPDES permitting authority. On April 25, 2011, EPA proposed for public comment the draft National Pollutant Discharge Elimination System general permit for stormwater discharges from large and small construction activities and initiated scoping for the development of the environmental issues and reasonable alternatives to be addressed in the EA. 76 FR 22882.

The environmental review process, which is documented by the Environmental Assessment (EA), indicates that no potential significant adverse environmental impacts are anticipated from the proposed action. The EA, which analyzed the potential environmental impacts of issuing the new CGP, considered the potential environmental impacts from the discharge of pollutants in stormwater discharges associated with construction activity where EPA is the permitting authority.

Based on the environmental impact analysis in the EA, EPA has determined that no significant environmental impacts are anticipated from the issuance of the 2012 Construction General Permit and the proposed action does not constitute a major Federal action significantly affecting the quality of the human environment, making the preparation of an Environmental Impact Statement (EIS) unnecessary. Therefore, EPA is issuing a preliminary Finding of No Significant Impact (FONSI).

Dated: December 20, 2011.
Aimee S. Hessert,
Deputy Division Director, NEPA Compliance Division, Office of Federal Activities.

[FR Doc. 2011-32945 Filed 12-22-11; 8:45 am]

BILLING CODE P